DEPARTMENT OF JUSTICE

Antitrust Division

Notice Pursuant to the National Cooperative Research and Production Act of 1993—PKI Forum, Inc.

Notice is hereby given that, on November 27, 2002, pursuant to Section 6(a) of the National Cooperative Research and Production Act of 1993, 15 U.S.C. 4301 et seq. (“the Act”), PKI Forum, Inc. has filed written notifications simultaneously with the Attorney General and the Federal Trade Commission disclosing changes in its membership status. The notifications were filed for the purpose of extending the Act's provisions limiting the recovery of antitrust plaintiffs to actual damages under specified circumstances. Specifically, Entrust Technologies, Addison, TX has been added as a party to this venture. Also, Seiko Instruments, Inc., Chiba, Japan, TRW, Inc., Cleveland, OH; e-Scotia, Toronto, Ontario, Canada; EEMA Worcester, United Kingdom; Neucom Corporation, Tokyo, Japan; Wells Fargo Bank, San Francisco, CA; Baltimore Technologies, Dublin 8, Ireland; RSA Security, Inc., Bedford, MA; FundServ, Toronto, Ontario, Canada; Fujitsu Limited, Yokohama, Japan; VeriSign, Inc., Mountain View, CA; Japan PKI Forum, Tokyo, Japan; GlaxoSmithKline, Philadelphia, PA; DataKey, Inc., Minneapolis, MN; Korea Information Security Agency, Seoul, Republic of Korea; Visa International, Foster City, CA; ICSA.net, Mechanicsburg, PA; Schlumberger Network Solutions, Houston, TX; KPMG LLP, Boston, MA; TeleTrustT Deutschland e.V, Erfurt, Germany; Canadian Payments Association, Ottawa, Ontario, Canada; Asia PKI Forum, Tokyo, Japan; Merck & Co., Inc., Whitehouse Station, NJ; Johnson & Johnson, New Brunswick, NJ; SSH Communications Security Corp., Helsinki, Finland; Computer Associates International, Inc., Herndon, VA; PKI Forum Singapore, Singapore, Singapore; Government of Canada PKI Secretariat, Ottawa, Ontario, Canada; Chunghwa Telecom Laboratories, Taoyuan, Taiwan; DOD/Federal PKI PMP, Ft. Meade, MD; Entrust Technologies, Addison, TX; and Mitsubishi Electric Corporation, Kanagawa, Japan have been dropped as parties to this venture.

No other changes have been made in either the membership or planned activity of the group research project. Membership in this group research project remains open, and PKI Forum, Inc. intends to file additional written notification disclosing all changes in membership.

On April 2, 2001, PKI Forum, Inc. filed its original notification pursuant to Section 6(a) of the Act. The Department of Justice published a notice in the Federal Register pursuant to Section 6(b) of the Act on May 3, 2001 (66 FR 22260).

The last notification was filed with the Department on September 5, 2002. A notice was published in the Federal Register pursuant to Section 6(b) of the Act on November 6, 2002 (67 FR 67649).

Constance K. Robinson,
Director of Operations, Antitrust Division.

[FR Doc. 02-32634 Filed 12-26-02; 8:45 am]

BILLING CODE 4410-11-M